DEPARTMENT OF LABOR

Office of the Assistant Secretary for Veterans' Employment and Training

Secretary of Labor's Advisory Committee for Veterans' Employment and Training; Notice of Open Meeting

The Secretary's Advisory Committee for Veterans' Employment and Training was established under section 4110 of title 38, United States Code, to bring to the attention of the Secretary, problems and issues relating to veterans' employment and training.

Notice is hereby given that the Secretary of Labor's Advisory Committee for Veterans' Employment and Training will meet on Thursday, October 17, 2002, beginning at 9 a.m. at the U.S. Department of Labor, 200 Constitution Avenue, NW., Room S-2508, Washington, DC 20210.

Written comments are welcome and may be submitted by addressing them to: Mr. John Muckelbauer, Designated Federal Official, Office of the Assistant Secretary for Veterans' Employment and Training, U. S. Department of Labor, 200 Constitution Avenue, NW., Room S-1325, Washington, DC 20210.

The primary items on the agenda are:

Discussion of the Transition Assistance Program;

Discussion on Licensing and Certification;

Discussion of other programs and activities of interest to the Committee.

The meeting will be open to the public.

Persons with disabilities needing special accommodations should contact Mr. John Muckelbauer at telephone number 202/693-4700 no later than Wednesday, October 16, 2002.

Signed at Washington, DC, this September 26, 2002.
Frederico Juarbe, Jr.,
Assistant Secretary of Labor for Veterans' Employment and Training.

[FR Doc. 02-24997 Filed 10-1-02; 8:45 am]

BILLING CODE 4510-79-P